SMALL BUSINESS ADMINISTRATION

[Disaster Declaration #17640 and #17641; PUERTO RICO Disaster Number PR-00042]

Presidential Declaration of a Major Disaster for the Commonwealth of Puerto Rico

AGENCY: U.S. Small Business Administration.

ACTION: Notice.

SUMMARY: This is a Notice of the Presidential declaration of a major disaster for the Commonwealth of Puerto Rico (FEMA-4671-DR), dated 09/21/2022.

Incident: Hurricane Fiona.

Incident Period: 09/17/2022 and continuing.

DATES: Issued on 09/21/2022.

Physical Loan Application Deadline Date: 11/21/2022.

Economic Injury (EIDL) Loan Application Deadline Date: 06/21/2023.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 09/21/2022, applications for disaster loans may be filed at the address listed above or other locally announced locations.

The following areas have been determined to be adversely affected by the disaster:

Primary Municipalities (Physical Damage and Economic Injury Loans):

Adjuntas, Aguas Buenas, Aibonito, Arroyo, Barranquitas, Bayamon, Caguas, Canovanas, Carolina, Catano, Cayey, Ceiba, Ciales, Cidra, Coamo, Comerio, Corozal, Dorado, Fajardo, Florida, Guayama, Guayanilla, Guaynabo, Gurabo, Humacao, Jayuya, Juana Diaz, Juncos, Lares, Las Piedras, Luquillo, Maricao, Maunabo, Morovis, Naguabo, Naranjito, Orocovis, Patillas, Penuelas, Ponce, Rio Grande, Salinas, San Juan, San Lorenzo, Santa Isabel, Toa Alta, Toa Baja, Trujillo Alto, Utuado, Vega Alta, Vega Baja, Vieques, Villalba, Yabucoa, Yauco.

Contiguous Municipalities (Economic Injury Loans Only):

Puerto Rico Arecibo, Barceloneta, Camuy, Guanica, Hatillo, Las Marias, Loiza, Manati, Mayaguez, Sabana Grande, San German, San Sebastian.

The Interest Rates are:

| Percent
For Physical Damage:
Homeowners with Credit Available Elsewhere | 4.375
Homeowners without Credit Available Elsewhere | 2.188
Businesses with Credit Available Elsewhere | 6.080
Businesses without Credit Available Elsewhere | 3.040
Non-Profit Organizations with Credit Available Elsewhere | 1.875
Non-Profit Organizations without Credit Available Elsewhere | 1.875
For Economic Injury:
Businesses & Small Agricultural Cooperatives without Credit Available Elsewhere | 3.040
Non-Profit Organizations without Credit Available Elsewhere 1.875

The number assigned to this disaster for physical damage is 17640 8 and for economic injury is 17641 0.

(Catalog of Federal Domestic Assistance Number 59008)

Rafaela Monchek,
Acting Associate Administrator for Disaster Assistance.

[FR Doc. 2022-21106 Filed 9-28-22; 8:45 am]

BILLING CODE 8026-09-P